DEPARTMENT OF COMMERCE

National Oceanic and Atmospheric Administration

[I.D. 070902B]

Gulf of Mexico Fishery Management Council; Public Meeting

AGENCY: National Marine Fisheries Service (NMFS), National Oceanic and Atmospheric Administration (NOAA), Commerce.

ACTION: Notice of public meetings.

SUMMARY: The Gulf of Mexico Fishery Management Council will convene public meetings of the Standing and Special Mackerel Scientific and Statistical Committee (SSC) and the Standing and Special Shrimp SSC on Tuesday, July 30, 2002.

DATES: The mackerel SSC will meet beginning at 8:30 a.m. on July 30, 2002, and will conclude by 12 noon. The Shrimp SSC will be convened immediately following the Standing and Special Mackerel SSC meeting.

ADDRESSES: The meetings will be held at the New Orleans Airport Hilton, 901 Airline Highway, Kenner, LA; telephone 504-469-5000.

Council address: Gulf of Mexico Fishery Management Council, 3018 U.S. Highway 301 North, Suite 1000, Tampa, FL 33619.

FOR FURTHER INFORMATION CONTACT: Dr. Richard Leard, Senior Fishery Biologist, Gulf of Mexico Fishery Management Council; telephone: 813-228-2815.

SUPPLEMENTARY INFORMATION: The Mackerel SSC will be convened to review stock assessment information on mackerel stocks, particularly Gulf Group king mackerel, as well as the report of the Socioeconomic Panel (SEP) and provide recommendations to the Council on possible changes to Federal rules affecting mackerels. The Shrimp SSC will convene to review the Shrimp Stock Assessment Panel (SSAP) report that includes recommendations for definitions of maximum sustainable yields (MSY) optimum yield (OY) overfishing, and the overfished condition for the various shrimp stocks in the Gulf. The Shrimp SSC will also receive a presentation regarding assessment of direct measures of shrimp fishing effort to determine effort and bycatch in the shrimp fishery and may make recommendation regarding these reports and presentations to the Council.

Although other non-emergency issues not on the agendas may come before the SSCs for discussion, in accordance with the Magnuson-Stevens Fishery Conservation and Management Act, those issues may not be the subject of formal action during these meetings. Actions of the SSCs will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

This meeting is physically accessible to people with disabilities. Requests for sign language interpretation or other auxiliary aids should be directed to Anne Alford at the Council (see ADDRESSES) by July 22, 2002.

Dated: July 10, 2002.
Richard W. Surdi,
Acting Director, Office of Sustainable Fisheries, National Marine Fisheries Service.

[FR Doc. 02-17856 Filed 7-15-02; 8:45 am]

BILLING CODE 3510-22-S